ENVIRONMENTAL PROTECTION AGENCY

[EPA-HQ-OPP-2007-0099; FRL-9944-33]

Flubendiamide; Notice of Receipt of Request To Voluntarily Cancel a Pesticide Product Registration

AGENCY: Environmental Protection Agency (EPA).

ACTION: Notice.

SUMMARY: In accordance with the Federal Insecticide, Fungicide, and Rodenticide Act (FIFRA), EPA is issuing a notice of receipt of a request by the registrant to voluntarily cancel two flubendiamide end-use products. The request would delete the registrations of the flubendiamide products SYNAPSE WG Insecticide (EPA Reg. No. 264-1026) and SYNAPSE 480 Insecticide (EPA Reg. No. 264-1107). EPA intends to grant this request, unless the registrant withdraws its request. If this request is granted, any sale or distribution of the products listed in this notice will not be permitted after the registration has been cancelled as described in the final order.

DATES: Comments must be received on or before May 11, 2016.

ADDRESSES: Submit your comments, identified by docket identification (ID) number EPA-HQ-OPP-2007-0099, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Susan Lewis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background on the Receipt of Request To Cancel Registration

This notice announces receipt by EPA of a request from Bayer CropScience LP, P.O. Box 12014, 2 T.W. Alexander Drive, Research Triangle Park, NC 27709-2014 to cancel two specific flubendiamide end-use product registrations as identified in Tables 1 and 2 of Unit III. Specifically, Bayer CropScience LP submitted written requests to voluntarily cancel SYNAPSE WG Insecticide (EPA Reg. No. 264-1026) on December 12, 2014, and SYNAPSE 480 Insecticide (EPA Reg. No. 264-1107) on March 21, 2016. Bayer confirmed that neither formulation is commercially active.

III. What action is the agency taking?

This notice announces receipt by EPA of a request from Bayer CropScience LP to cancel their registrations for two specific flubendiamide product registrations. The affected products and the registrant making the request are identified in Tables 1 and 2 of this unit. Unless the request is withdrawn by the registrant, EPA intends to issue an order cancelling the affected registration.

Table 1—Flubendiamide Product Registration With Pending Request for Cancellation
Registration No. | Product name | Company
264-1026 | SYNAPSE WG Insecticide | Bayer CropScience LP.
264-1107 | SYNAPSE 480 Insecticide | Bayer CropScience LP.

Table 2 of this unit includes the name and address of record for the registrant of the products listed in Table 1 of this unit. This number corresponds to the first part of the EPA registration numbers of the products listed in Table 1 of this unit.

Table 2—Registrant Requesting Voluntary Cancellation
EPA company No. | Company name and address
264 | Bayer CropScience LP, P.O. Box 12014, 2 T.W. Alexander Drive, Research Triangle Park, NC 27709-2014.

IV. What is the agency's authority for taking this action?

Section 6(f)(1) of FIFRA (7 U.S.C. 136d(f)(1)) provides that a registrant of a pesticide product may, at any time, request that any of its pesticide registrations be cancelled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination or any minor agricultural use before granting the request, unless:

1. The registrants request a waiver of the comment period, or

2. The EPA Administrator determines that continued use of the pesticide would pose an unreasonable adverse effects to the environment. The flubendiamide registrant has requested that EPA waive the 180-day comment period for this action. Accordingly, EPA is providing a 30-day comment period on the proposed requests.

V. Procedures for Withdrawal of Requests

Registrants who choose to withdraw a request for product cancellation or use deletion should submit the withdrawal in writing to the person listed under FOR FURTHER INFORMATION CONTACT. If the products have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the request for voluntary cancellation is granted, the Agency intends to publish the cancellation order in the Federal Register.

In any order issued in response to this request for cancellation of SYNAPSE WG Insecticide and SYNAPSE 480 Insecticide, EPA proposes to include the following provisions for the treatment of any existing stocks of the products listed in Tables 1 and 2 of Unit III.

The registrant and distributors may not sell or distribute existing stocks of the product. Users with existing stocks of the cancelled product can use the product until supplies are exhausted, provided that such use is consistent with the terms of the previously approved labeling on, or that accompanied, the cancelled product. Thereafter, registrants and any distributors of the product will be prohibited from selling or distributing the product identified in Table 1 of Unit III., except for export consistent with FIFRA section 17 (7 U.S.C. 136o) or for proper disposal. Any additional information will be set forth in a cancellation order after the products have been cancelled.

Authority: 7 U.S.C. 136 et seq.

Dated: March 30, 2016.
Susan Lewis,
Director, Registration Division, Office of Pesticide Programs.

[FR Doc. 2016-08273 Filed 4-8-16; 8:45 am]

BILLING CODE 6560-50-P